DEPARTMENT OF AGRICULTURE

Agricultural Marketing Service

[Doc. No. AMS-TM-07-0118; TM-07-09]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Wednesday, November 28, 2007, 8 a.m. to 5:30 p.m.; Thursday, November 29, 2007, 8 a.m. to 5:30 p.m.; and Friday, November 30, 2007, 8 a.m. to 5:30 p.m. Requests from individuals and organizations wishing to make oral presentations at the meeting are due by the close of business on November 12, 2007.

ADDRESSES: The meeting will take place at The Holiday Inn National Airport Hotel, 2650 Jefferson Davis Hwy, Arlington, VA 22202.

• Requests for copies of the NOSB meeting agenda, may be sent to Ms. Valerie Frances, Executive Director, NOSB, USDA-AMS-TMP-NOP, 1400 Independence Ave., SW., Room 4008-So., Ag Stop 0268, Washington, DC 20250-0268. The NOSB meeting agenda and proposed recommendations may also be viewed at http://www.ams.usda.gov/nop.

• Comments on proposed NOSB recommendations may be submitted in writing to Ms. Frances at either the postal address above or via the internet at http://www.regulations.gov only. The comments should identify Docket No. AMS-TM-07-0118. It is our intention to have all comments to this notice whether they are submitted by mail or the internet available for viewing on the http://www.regulations.gov Web site.

• Requests to make an oral presentation at the meeting may also be sent to Ms. Valerie Frances at the postal address above, by e-mail at valerie.frances@usda.gov, via facsimile at (202) 205-7808, or phone at (202) 720-3252.

FOR FURTHER INFORMATION CONTACT: Valerie Frances, Executive Director, NOSB, National Organic Program (NOP), (202) 720-3252, or visit the NOP Web site at: http://www.ams.usda.gov/nop.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 148 addenda to its recommendations and reviewed more than 324 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding 5 years unless the exemption or prohibition is reviewed and recommended for renewal by the NOSB and adopted by the Secretary of Agriculture. This expiration is commonly referred to as sunset of the National List. The National List appears at 7 CFR part 205, subpart G.

The principal purposes of the NOSB meeting are to provide an opportunity for the NOSB to receive an update from the USDA/NOP and hear progress reports from NOSB committees regarding work plan items and proposed action items. The last meeting of the NOSB was held on March 27-29, 2007, in Washington, DC.

At its last meeting, the Board recommended the addition of 35 materials to the National List 205.606 for use in handling and began the sunset review process of 11 materials. At this meeting, the Board will continue the sunset review process of these 11 materials. There are 7 substances for use in crops and handling which were placed on the National List on November 3, 2003, and are scheduled to expire on November 3, 2008. There are 4 substances for use in handling which were placed on the National List on November 4, 2003, and are scheduled to expire on November 4, 2008. The sunset review process must be concluded no later than November 3 and 4, 2008, respectively. If renewal is not concluded by those dates, the use or prohibition of these 11 materials will no longer be in compliance with the National Organic Program.

The Policy Development Committee will present recommendations regarding revisions to the NOSB Policy and Procedures Manual and the Guide for new NOSB members as well as discuss their on-going collaboration with the NOP to review the NOP responses to prior NOSB recommendations. The Policy Development, Crops and Livestock Committees will jointly present their two recommendations: Guidance on the Certification of Operations Involved in Crops Research and Guidance on Temporary Research Variances.

The Materials and Handling Committees will jointly present their recommendation to clarify the definitions of materials on the National List in §§ 205.605(a), (b) and § 205.606.

The Handling Committee will present their recommendations on materials petitioned for consideration for inclusion on either § 205.605 or § 205.606 for use in organic products: Gellan Gum and Grape Seed Extract. The Committee will present their recommendations on the continued use or prohibition of the material exemptions on § 205.605(a) which is Agar-agar and due to expire on November 3, 2008, and Animal enzymes, Calcium sulfate, and Glucono delta-lactone, with their respective annotations and limitations, due to expire on November 4, 2008. The Committee will also present their recommendations on the continued use or prohibition of the material exemption on § 205.605(b) which is Cellulose with its respective annotations and limitations, due to expire on November 4, 2008. Additionally, the Committee will present their recommendation on the development of standards for organic pet food.

The Crops Committee will present recommendations on the materials Potassium Silicate, Sodium Carbonate Peroxyhydrate, and Sodium Ferric Hydroxy EDTA petitioned for use on § 205.601. The Committee will present their recommendations on the continued use or prohibition of Copper sulfate, Ozone gas, Peracetic acid, and Environmental Protection Agency (EPA) List 3—Inerts of unknown toxicity, with their respective annotations and limitations. These National List material exemptions are due to expire on November 3, 2008, from § 205.601. The Committee will also present their recommendation on the continued use or prohibition of Calcium chloride for use as a brine-sourced foliar spray. Calcium chloride is otherwise considered a prohibited natural substance on § 205.602 and is also due to expire on November 3, 2008.

The Livestock Committee will receive the Aquaculture Working Group: Supplement to Interim Final Report on Bivalve molluscs as well as discuss the outstanding issues related to fish feed and open net pens in regards to the aquaculture standards for finfish.

The Compliance, Accreditation, and Certification Committee will present their recommendation on the standardization of certificates, and their recommendations offering guidance for accredited certifying agents regarding annual commercial availability determinations for ingredients listed on § 205.606 and organic seed sourcing by farmers under § 205.204, and on the certification of multi-site operations, including community grower groups.

The Meeting is Open to the Public. The NOSB has scheduled time for public input for Wednesday, November 28, 2007, from 10 a.m. to 12 p.m. and from 1:15 p.m. to 5:30 p.m., Thursday, November 29, 2007, from 3:30 p.m. to 5:30 p.m., and Friday, November 30, 2007, from 8 a.m. to 10:45 a.m. Individuals and organizations wishing to make oral presentations at the meeting may forward their requests by mail, facsimile, e-mail, or phone to Valerie Frances as listed in ADDRESSES above. Individuals or organizations will be given approximately 5 minutes to present their views. All persons making oral presentations are requested to provide their comments in writing. Written submissions may contain information other than that presented at the oral presentation. Anyone may submit written comments at the meeting. Persons submitting written comments are asked to provide 30 copies.

Interested persons may visit the NOSB portion of the NOP Web site at http://www.ams.usda.gov/nop to view available meeting documents prior to the meeting, or visit http://www.regulations.gov to submit and view comments as provided for in ADDRESSES above. Documents presented at the meeting will be posted for review on the NOP Web site approximately 6 weeks following the meeting.

Dated: October 9, 2007.
Lloyd C. Day,
Administrator, Agricultural Marketing Service.

[FR Doc. 07-5042 Filed 10-11-07; 8:45 am]

BILLING CODE 3410-02-P